COMMITTEE FOR PURCHASE FROM PEOPLE WHO ARE BLIND OR SEVERELY DISABLED

Procurement List; Proposed Additions

AGENCY: Committee for Purchase from People Who Are Blind or Severely Disabled.

ACTION: Proposed Additions to Procurement List.

SUMMARY: The Committee is proposing to add to the Procurement List a product and services to be furnished by nonprofit agencies employing persons who are blind or have other severe disabilities.

Comments Must Be Received on or Before: October 13, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740

SUPPLEMENTARY INFORMATION: This notice is published pursuant to 41 U.S.C 47(a) (2) and 41 CFR 51-2.3. Its purpose is to provide interested persons an opportunity to submit comments on the possible impact of the proposed actions.

If the Committee approves the proposed additions, the entities of the Federal Government identified in the notice for each product or service will be required to procure the product and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List. Comments on this certification are invited.

Commenters should identify the statement(s) underlying the certification on which they are providing additional information.

The following products and services are proposed for addition to Procurement List for production by the nonprofit agencies listed:

Product

Product/NSN: Insect Repellent, Clothing Application,

6840-01-345-0237.

NPA: Beaufort Vocational Rehabilitation Center, Beaufort, South Carolina.

Contract Activity: Defense Supply Center Richmond, Richmond, Virginia.

Services

Service Type/Location: Janitorial/Custodial, Austin Straubel International Airport, ATCT and Base Building, Green Bay, Wisconsin.

NPA: Brown County ARC, Inc., Green Bay, Wisconsin.

Contract Activity: Federal Aviation Administration, Des Plaines, Illinois.

Service Type/Location: Janitorial/Custodial, U.S. Army Reserve Center, Fraser, Michigan.

NPA: Jewish Vocational Service and Community Workshop, Inc., Southfield, Michigan.

Contract Activity: HQ, 88th Regional Support Command, Fort Snelling, Minnesota.

Service Type/Location: Medical Transcription, Department of Veterans Affairs, VAMC Boise, Boise, Idaho.

NPA: The Lighthouse of Houston, Houston, Texas.

Contract Activity: Veterans Affairs Medical Center, Boise, Idaho.

Service Type/Location: Operation of Safety Services, Naval Station Bremerton/Everett, Naval Air Station, Whidbey Island, SUBASE Bangor, Washington.

NPA: St. Vincent DePaul Rehabilitation Service, Inc., Portland, Oregon.

Contract Activity: Naval Facilities Engineering Command, Engineering Field Activity, Northwest, Poulsbo, Washington.

Service Type/Location: Personal Environmental Protection & Survival Equipment Warehousing and Distribution Services, U.S. Army Natick Soldier Center, Natick, Massachusetts.

NPA: Chautauqua County Chapter, NYSARC, Jamestown, New York.

Contract Activity: U.S. Army Natick Soldier Center, Natick, Massachusetts.

Service Type/Location: Telephone Switchboard Operations, Department of Veterans Affairs, Erie VA Medical Center, Erie, Pennsylvania.

NPA: Elizabeth Pierce Olmsted, M.D. Center for the Visually Impaired, Buffalo, New York.

Contract Activity: Erie Veterans Affairs Medical Center, Erie, Pennsylvania.

Sheryl D. Kennerly,
Director, Information Management.

[FR Doc. 02-23381 Filed 9-12-02; 8:45 am]

BILLING CODE 6353-01-P